DEPARTMENT OF COMMERCE

International Trade Administration

Notice of Scope Rulings

AGENCY: Enforcement and Compliance, International Trade Administration, Department of Commerce.

DATES: Applicable June 9, 2020.

SUMMARY: The Department of Commerce (Commerce) hereby publishes a list of scope rulings and anti-circumvention determinations made during the period January 1, 2020 through March 31, 2020. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on March 3, 2020.² This current notice covers all scope rulings and anti-circumvention determinations made by Enforcement and Compliance between January 1, 2020 through March 31, 2020.

¹ See 19 CFR 351.225(o).

² See Notice of Scope Rulings, 85 FR 12515 (March 3, 2020).

Scope Rulings Made January 1, 2020 Through March 31, 2020

People's Republic of China (China)

A-570-890: Wooden Bedroom Furniture From China ³

³ This was inadvertently left out of the previous Quarterly Scope Federal Register Notice that published on March 3, 2020 (85 FR 12515).

Requestor: U.S. Customs and Border Protection, EAPA Investigation No. 7189. A desk/console table with drawers (found to be excluded office furniture), a TV cabinet with minibar (found to have features inconsistent with wooden bedroom furniture), a trunk storage unit (found to be living room furniture), and a bed bench base (found to be excluded seating furniture) are not covered by the scope of the antidumping duty (AD) order on wooden bedroom furniture from China. However, certain TV credenzas/dressers and a console/custom dresser are covered by the scope of the order because these furniture pieces have features consistent with subject chests and/or dressers and are suitable for storing clothing; December 31, 2019.

A-570-983 and C-570-984: Drawn Stainless Steel Sinks From China

Requestor: Simpli Home Ltd. Based on the scope language stated in the orders, the sinks imported as part of Simpli Home Ltd.'s laundry cabinets are covered by the scope of the AD and countervailing duty (CVD) orders on drawn stainless steel sinks (sinks) from China; January 2, 2020.

A-570-067 and C-570-068: Forged Steel Fittings From China

Requestor: Alemite, LLC. Hydraulic hand gun coupler and the universal swivel assembly are not covered by the scope of the AD and CVD orders on forged steel fittings from China because they are made to different industry standards and temporarily connect to hoses that cannot convey corrosive materials; January 8, 2020.

A-570-040 and C-570-041: Truck and Bus Tires From China

Requestor: America Koryo, Inc.; size 8-14.5 truck and bus tires imported by America Koryo, Inc. from China are not within the scope of the AD and CVD orders. Size 11-22.5 truck and bus tires imported by America Koryo, Inc. from China are within the scope of the orders; January 8, 2020.

A-570-899: Artist Canvas From China

Requestor: Global Textile Partners, Inc. Certain woven blockout material and certain woven blackout material (collectively, blockout and backlit fabric) which Global Textile imports is not within the scope of the AD order on artist canvas from China because no priming or coating (i.e., gesso) is applied to the blockout and backlit fabric in order to promote the adherence of artist materials, such as paint or ink, to the fabric, a defining characteristic of the artist canvas subject to the scope of order; January 21, 2020.

A-570-010 and C-570-011: Crystalline Silicon Photovoltaic Products From China

Requestor: SunSpark Technology Inc. Commerce found that solar panels and cells that are manufactured in Vietnam from unprocessed wafers imported from China are not covered by the scope of the AD and CVD orders on solar products from China because the scope only covers photovoltaic panels and modules that are assembled in China from non-Chinese solar cells. Using documentation submitted to the record, importer SunSpark demonstrated that the merchandise in question was assembled in Vietnam; January 23, 2020.

A-570-890: Wooden Bedroom Furniture From China

Requestor: Zinus Inc. USA, Zinus (Xiamen) Inc., and Zinus (Zhangzhou) Inc. Seven upholstered platform beds are not covered by the scope of the AD order on wooden bedroom furniture from China because they meet the scope exclusion for “completely upholstered” beds; January 27, 2020.

A-570-084, C-570-085: Quartz Surface Products From China

Requestor: Deyuan Panmin International Limited and Xiamen Deyuan Panmin Trading Co., Ltd. (collectively, Panmin); Based on the plain language of the scope of the orders and in accordance with 19 CFR 351.225(k)(1), Panmin's three “ZZ” series glass products for which it requested an exclusion (i.e., ZZ3003, ZZ7119, and ZZ7027) are within the scope of the AD and CVD orders on quartz surface products from China; February 20, 2020.

A-570-073 and C-570-074: Common Alloy Aluminum Sheet From China

Requestor: K2W Precision Inc. Not clad aluminum sheet manufactured from 6061 alloy aluminum is not covered by the scope of AD and CVD orders on common alloy aluminum sheet from China because the scope only covers not clad aluminum sheet that is manufactured from a 1XXX, 3XXX, or 5XXX series alloy. The scope does not reference not clad aluminum sheet manufactured from a 6XXX-series alloy; March 20, 2020.

A-570-932: Certain Steel Threaded Rod From China

Requester: All-Pro Fasteners, Inc. ASTM A449 hot-dipped galvanized all-threaded rods and studs are not covered by the scope of the AD order on certain steel threaded rod from China because they are heat treated/through-hardened, consistent with ASTM A449, and include a “A449” marking on the head; March 27, 2020 (Preliminary Ruling)

Thailand

A-549-502: Circular Welded Carbon Steel Pipes and Tubes From Thailand

Requestor: Self-Initiated. Commerce preliminarily found that line pipe is not covered by the scope of the AD order on circular welded carbon steel pipes and tubes from Thailand because the petitioner withdrew the petition with respect to line pipe during the underlying investigation and the ITC's injury investigation did not include line pipe. However, products that are dual-stenciled as standard and line pipe are covered by the order; February 24, 2020.

Anti-Circumvention Determinations Made January 1, 2020 Through March 31, 2020

China

A-570-900: Diamond Sawblades and Parts Thereof From China

Requestor: Diamond Sawblades Manufacturers' Coalition; diamond sawblades made with Chinese cores and Chinese segments in Canada by Protech Diamond Tools Inc. and exported from Canada to the United States are within the scope of the order; February 20, 2020.

A-570-028—Hydrofluorocarbon Blends From China

Anti-circumvention Inquiry: Imports of unfinished blends of hydrofluorocarbon (HFC) components R-32 and R-125 from China are circumventing the AD order on HFC blends from China; March 18, 2020.

Notification to Interested Parties

Interested parties are invited to comment on the completeness of this list of completed scope inquiries and anti-circumvention determinations made during the period January 1, 2020 through March 31, 2020. Any comments should be submitted to the Deputy Assistant Secretary for AD/CVD Operations, Enforcement and Compliance, International Trade Administration, 1401 Constitution Avenue NW, APO/Dockets Unit, Room 18022, Washington, DC 20230.

This notice is published in accordance with 19 CFR 351.225(o).

Dated: June 3, 2020.
James Maeder,
Deputy Assistant Secretary for Antidumping and Countervailing Duty Operations.

[FR Doc. 2020-12425 Filed 6-8-20; 8:45 am]

BILLING CODE 3510-DS-P